DEPARTMENT OF HEALTH AND HUMAN SERVICES

Centers for Disease Control and Prevention

[30Day-19-18XG]

Agency Forms Undergoing Paperwork Reduction Act Review

In accordance with the Paperwork Reduction Act of 1995, the Centers for Disease Control and Prevention (CDC) has submitted the information collection request titled Evaluation of the third decade of the National Occupational Research Agenda (NORA) Council Effectiveness to the Office of Management and Budget (OMB) for review and approval. CDC previously published a “Proposed Data Collection Submitted for Public Comment and Recommendations” notice on April 19, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Evaluation of the Third Decade of the National Occupational Research Agenda (NORA) Council Effectiveness—New—National Institute for Occupational Safety and Health (NIOSH), Centers for Disease Control and Prevention (CDC).

Background and Brief Description

The National Institute for Occupational Safety and Health (NIOSH) is responsible for conducting research and making recommendations to prevent worker injury and illness, as authorized in Section 20(a)(1) of the Occupational Safety and Health Act (29 U.S.C. 669). In 1995-1996, NIOSH saw an opportunity to enhance its ability to accomplish its mission through partnerships that involved a broad national stakeholder base in occupational safety and health. With stakeholder input, NIOSH developed and launched a partnership program titled the National Occupational Research Agenda (NORA) in 1996. Participation in NORA includes stakeholders from universities, large and small businesses, professional societies, government agencies, and worker organizations. NORA runs in ten-year cycles, with the first decade running 1996-2006, the second 2006-2016, and the third 2016-2026.

The structure of NORA has evolved over time, and now, in the third decade, it is organized into ten industry sectors based on major areas of the U.S. economy, and seven health and safety cross-sectors organized according to the major health and safety issues affecting the U.S. working population. The work of the sectors and cross-sectors is managed through a partnership structure of councils. Each of the 17 councils develops and maintains an agenda for the decade for its sector. The sector agendas become part of the national agenda for improvements in occupational safety and health through research and partnerships. Representing all stakeholders, the councils use an open process to set research objectives, share information, encourage partnerships, and promote improved workplace practices.

NIOSH is requesting a 12-month OMB approval to administer a survey to NORA council members and leaders. As the steward of NORA, it is NIOSH's responsibility to ensure that councils, which are central to the work of NORA, are operating well. Without this data collection, NIOSH's internal review of NORA would lack critical stakeholder input from its many non-Federal partners.

The target population is all current and former members and leaders of each of the 17 NORA councils in the third decade of NORA. The web-based survey requests information on council activities, the effectiveness of the council and its processes, and suggestions for improving the effectiveness and impact of NORA councils in the future.

NIOSH will invite approximately 425 non-Federal NORA Sector council members to complete the web-based survey. Participation is voluntary and the estimated burden per response is 12 minutes. Based on experience with similar information collections, NIOSH estimates receipt of 225 completed responses. There are no costs to respondents other than their time. The total estimated annualized burden is 45 hours.

Estimated Annualized Burden Hours
Type of respondents | Form name | Number of respondents | Number of responses per respondent | Average burden per response (in hours)
Non-federal NORA Council members or leaders | Council Survey | 225 | 1 | 12/60

Jeffrey M. Zirger,
Lead, Information Collection Review Office, Office of Scientific Integrity, Office of Science, Centers for Disease Control and Prevention.

[FR Doc. 2019-10833 Filed 5-23-19; 8:45 am]

BILLING CODE 4163-18-P